DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending April 13, 2013. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0071.

Date Filed: April 10, 2013.

Due Date for Answers, Conforming Applications, or Motion to Modify Scope: May 1, 2013.

Description: Application of Hawaiian Airlines, Inc. requesting a certificate of public convenience and necessity and an exemption to provide scheduled combination service between the United States and China and that Hawaiian be designated to the Government of China to provide such service.

Docket Number: DOT-OST-2013-0073.

Date Filed: April 11, 2013.

Due Date for Answers, Conforming Applications, or Motion to Modify Scope: May 2, 2013.

Description: Application of Aeronexus Corporate (PTY) Ltd (“Aeronexus”) requesting a foreign air carrier permit to conduct charter foreign air transportation of persons, property and mail: (1) Between any point or points behind South Africa, via any point or points in South Africa, and via intermediate points to any point or points in the United States or beyond; (2) between any point or points in the United States and any point or points in South Africa; (3) other charters pursuant to the prior approval requirements; and (4) transportation authorized by any additional charter rights that may be made available to South African carriers in the future. Aeronexus also requests an exemption to the extent necessary to enable it to provide the service described above pending issuance of its foreign air carrier permit and such other relief as the Department may deem necessary or appropriate.

Barbara J. Hairston,
Acting Program Manager, Docket Operations, Federal Register Liaison.

[FR Doc. 2013-09683 Filed 4-23-13; 8:45 am]

BILLING CODE 4910-9X-P